DEPARTMENT OF LABOR

Employment and Training Administration

[TA-W-38,707]

Philips Consumer Electronics Company, Knoxville Industrial Design Group (KID), Knoxville, TN; Notice of Negative Determination Regarding Application for Reconsideration

By application dated May 8, 2001, a petitioner requested administrative reconsideration of the Department's negative determination regarding eligibility to apply for Trade Adjustment Assistance (TAA), applicable to workers and former workers of the subject firm. The denial notice was signed on April 9, 2001, and published in the Federal Register on May 2, 2001 (66 FR 22006).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The Department initially denied the TAA to workers of Philips Consumer Electronics Company, Knoxville Industrial Design Group (KID), Knoxville, Tennessee, based on the finding that the workers did not produce an article as required by Section 222(3) of the Trade Act of 1974, as amended.

The petitioner asserts that the subject firm is involved in the design and production of one-of-a-kind prototypes that were sent to the company headquarters or to third party companies, and thus the workers should be considered engaged in employment related to the production of a tangible product.

The Department concurs with the petitioner that the worker group could be considered engaged in employment related to the production of an article. The prototypes, however, were one-of-a-kind, and as such, were never mass produced. Furthermore, since the prototypes were one-of-a-kind, there could not be any imports of articles like or directly competitive with the prototypes constructed by the workers of the subject firm.

Conclusion

After review of the application and investigative findings, I conclude that there has been no error or misinterpretation of the law or of the facts which would justify reconsideration of the Department of Labor's prior decision. Accordingly, the application is denied.

Signed at Washington, DC, this 14th day of September 2001.
Edward A. Tomchick,
Director, Division of Trade Adjustment Assistance.

[FR Doc. 01-24823 Filed 10-3-01; 8:45 am]

BILLING CODE 4510-30-M